DEPARTMENT OF COMMERCE

Submission for OMB Review; Comment Request

The Department of Commerce (DOC) has submitted to the Office of Management and Budget (OMB) for clearance the following proposal for collection of information under provisions of the Paperwork Reduction Act (44 U.S.C. Chapter 35).

Agency: Bureau of Industry and Security (BIS).

Title: Licensing Responsibilities and Enforcement.

Agency Form Number: None.

OMB Approval Number: 0694-0122.

Type of Request: Extension of a Currently Approved Collection.

Burden: 77,926 hours.

Average Time Per Response: From 5 seconds to 1 hour per response.

Number of Respondents: 1,827,450 respondents.

Needs and Uses: This information collection package supports the various collections, notifications, reports, and information exchanges that are needed by the Office of Export Enforcement and Customs to enforce the Export Administration Regulations and maintain the National Security of the United States.

Affected Public: Individuals, businesses or other for-profit institutions.

Respondent's Obligation: Mandatory.

OMB Desk Officer: David Rostker.

Copies of the above information collection proposal can be obtained by calling or writing Diana Hynek, DOC Paperwork Clearance Officer, Office of the Chief Information Officer, (202) 482-0266, Department of Commerce, Room 6625; 14th and Constitution Avenue, NW.; Washington, DC 20230.

Written comments and recommendations for the proposed information collection should be sent within 30 days of publication of this notice to David Rostker, OMB Desk Officer, Room 10202, New Executive Office Building, Washington, DC 20230.

Dated: March 23, 2006.
Madeleine Clayton,
Management Analyst, Office of the Chief Financial Officer.

[FR Doc. E6-4526 Filed 3-28-06; 8:45 am]

BILLING CODE 3510-JT-P